DEPARTMENT OF TRANSPORTATION

Federal Aviation Administration

14 CFR Part 39

[Docket No. 2003-NE-12-AD; Amendment 39-13434; AD 2004-01-20]

RIN 2120-AA64

Airworthiness Directives; Rolls-Royce plc RB211 Series Turbofan Engines; Correction

AGENCY: Federal Aviation Administration, DOT.

ACTION: Final rule; correction

SUMMARY: This document makes a correction to Airworthiness Directive (AD) 2004-01-20, which is applicable to Rolls-Royce plc (RR) RB211-22B series, RB211-524B, -524C2, -524D4, -524G2, -524G3, and -524H series, and RB211-535C and -535E series turbofan engines with high pressure compressor (HPC) stage 3 disc assemblies, part numbers (P/Ns) LK46210, LK58278, LK67634, LK76036, UL11706, UL15358, UL22577, UL22578, and UL24738 installed. That AD was published in the Federal Register on January 20, 2004 (69 FR 2661). The compliance information for the RB211-535C engine was inadvertently omitted from the AD. Also, under Related Information, the referenced service bulletin is not the latest revision. This document adds the omitted information and corrects the service bulletin reference. In all other respects, the original document remains the same.

Effective Date: Effective January 20, 2004.

FOR FURTHER INFORMATION CONTACT: Ian Dargin, Aerospace Engineer, Engine Certification Office, FAA, Engine and Propeller Directorate, 12 New England Executive Park, Burlington, MA 01803; telephone (781) 238-7178; fax (781) 238-7199.

SUPPLEMENTARY INFORMATION: A final rule AD, FR Doc. 04-759, applicable to RR RB211-22B series, RB211-524B, -524C2, -524D4, -524G2, -524G3, and -524H series, and RB211-535C and -535E series turbofan engines with HPC stage 3 disc assemblies, P/Ns LK46210, LK58278, LK67634, LK76036, UL11706, UL15358, UL22577, UL22578, and UL24738 installed, was published in the Federal Register on January 20, 2004 (69 FR 2661). The following corrections are needed:

§ 39.13 [Corrected]

On page 2663, in the first column, after paragraph (f)(4), add paragraph (f)(5) to read:

“(5) Discs in RB211-535C operation are unaffected by the interim rework cyclic band limits in Table 1 of this AD, but must meet the calendar life requirements of either paragraph (f)(1) or (f)(2) of this AD, as applicable.”

On page 2663, in the second column, in paragraph (j), in the 4th and 5th lines, change “RB.211-72-9661, Revision 3, dated December 20, 1999” to “RB.211-72-9661, Revision 4, dated January 4, 2002”.

Issued in Burlington, MA, on July 21, 2004.
Francis A. Favara,
Acting Manager, Engine and Propeller Directorate, Aircraft Certification Service.

[FR Doc. 04-17283 Filed 7-28-04; 8:45 am]

BILLING CODE 4910-13-P